DEPARTMENT OF ENERGY

Federal Energy Regulatory Commission

Notice of Application for Transfer of Licenses and Soliciting Comments and Motions To Intervene

| Project Nos.
Public Service Company of New Hampshire | 1893-080, 2456-082, 7528-024, 2457-042, 2288-055, and 2287-050. HSE Hydro NH Amoskeag, LLC HSE Hydro NH Hooksett, LLC
HSE Hydro NH Garvin Falls, LLC
HSE Hydro NH Ayers Island, LLC
HSE Hydro NH Canaan, LLC
HSE Hydro NH Eastman Falls, LLC
HSE Hydro NH Gorham, LLC
HSE Hydro NH Smith, LLC

On December 29, 2017, Public Service Company of New Hampshire (transferor) and the transferees listed above filed an application for transfer of licenses for the following projects.

Project Nos. | Project names | Locations
P-1893-080 | Merrimack River Project | Merrimack River, Merrimack and Hillsborough counties, NH.
P-2456-082 | Ayers Island Hydroelectric Project | Pemigewasset River, Belknap and Grafton counties, NH.
P-7528-024 | Canaan Project | Connecticut River, Coos County, NH.
P-2457-042 | Eastman Falls Project | Pemigewasset River, Belknap and Grafton counties, NH.
P-2288-055 | Gorham Project | Androscoggin River, Coos County, NH.
P-2287-050 | J. Brodie Smith Project | Androscoggin River, Coos County, NH.

The transferor and transferees seek Commission approval to transfer the licenses for the above mentioned projects from the transferor to the transferees.

Applicant Contacts: For Transferor: Mr. Robert A. Bersak, Eversource Energy, 780 N. Commercial Street, P.O. Box 330, Manchester, NH 03105-0330, Phone: 603-634-3355, Email: Robert.bersak@eversource.com and Mr. James H. Hancock, Jr., Balch & Bingham, LLP, 1710 Sixth Avenue North, Birmingham, AL 35203, Phone: 205-226-3418, Email: jhancock@balch.com.

For Transferees: Mr. David Meeker, Hull Street Energy, LLC, 4920 Elm Street, Suite 205, Bethesda MD 20814, Phone: 240-800-3217, Email: dmeeker@hullstreetenergy.com and Mr. Jeffrey Davidson, Manatt, Phelps & Phillips, LLP, 1050 Connecticut Avenue NW, Suite 600, Washington, DC 20036, Phone: 202-585-6678, Email: jdavidson@manatt.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number(s) P-1893-080, P-2456-082, P-7528-024, P-2457-042, P-2288-055, and P-2287-050.

Dated: January 23, 2018.
Kimberly D. Bose,
Secretary.

[FR Doc. 2018-01786 Filed 1-29-18; 8:45 am]

BILLING CODE 6717-01-P